DEPARTMENT OF STATE

[Public Notice 5861]

International Security Advisory Board (ISAB) Meeting Notice—Cancellation of July 12 Meeting

The closed meeting of the International Security Advisory Board (ISAB) originally scheduled for July 12, 2007, and published as Public Notice 5759 in the Federal Register of June 14, 2007 (Volume 72, Number 114, Pages 32939-32940), has been cancelled.

For more information, contact Brandy Buttrick, Deputy Executive Director of the International Security Advisory Board, Department of State, Washington, DC 20520, telephone: (202) 647-9336.

Date: July 3, 2007.
George W. Look,
Executive Director, International, Security Advisory Board, Department of State.

[FR Doc. E7-13334 Filed 7-9-07; 8:45 am]

BILLING CODE 4710-25-P